DEPARTMENT OF COMMERCE

National Oceanic and Atmospheric Administration

Proposed Information Collection; Comment Request; Certification Requirements for NOAA's Hydrographic Product Quality Assurance Program

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 17, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to David B. Enabnit, (301) 713-2770 x132, Dave.Enabnit@noaa.gov.

SUPPLEMENTARY INFORMATION:

I. Abstract

This request is for an extension of a currently approved information collection.

The National Oceanic and Atmospheric Administration (NOAA) was mandated to develop and implement a quality assurance program under which the Administrator may certify privately-made hydrographic products. The Administrator fulfilled this mandate by establishing procedures by which hydrographic products are proposed for certification; by which standards and compliance tests are developed, adopted, and applied for those products; and by which certification is awarded or denied. These procedures are at 15 CFR 996. The application and recordkeeping requirements at 15 CFR 996 are the basis for this collection of information.

II. Method of Collection

Respondents have a choice of making application using either electronic or paper means. Methods of submittal include email of documents, and mail and facsimile transmission of paper documents described in 15 CFR 996.

III. Data

OMB Control Number: 0648-0507.

Form Number: None.

Type of Review: Regular submission (extension of a currently approved collection).

Affected Public: Businesses or other for-profit organizations

Estimated Number of Respondents: 5.

Estimated Time Per Response: 4 hours each to prepare the initial application, for documentation to accompany an item submitted for certification, and for a request for reconsideration of a NOAA decision.

Estimated Total Annual Burden Hours: 16.

Estimated Total Annual Cost to Public: $85.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 14, 2014.
Gwellnar Banks,
Management Analyst, Office of the Chief Information Officer.

[FR Doc. 2014-08836 Filed 4-17-14; 8:45 am]

BILLING CODE 3510-JE-P